DEPARTMENT OF THE TREASURY

Office of Investment Security

31 CFR Part 802

RIN 1505-AC88

Definition of Military Installation and the List of Military Installations in the Regulations Pertaining to Certain Transactions by Foreign Persons Involving Real Estate in the United States

Correction

In rule document 2024-25773 beginning on page 88128 in the issue of Thursday, November 7, 2024, make the following correction:

On page 88133, in the second column, in § 802.104 (d), in the third line “November 8, 2024” should read “November 7, 2024”.

[FR Doc. C1-2024-25773 Filed 11-15-24; 8:45 am]

BILLING CODE 0099-10-D